DEPARTMENT OF THE INTERIOR

Bureau of Land Management

[WY-920-09-1320-EL, WYW176107]

Coal Lease Exploration License, WY

AGENCY: Bureau of Land Management, Interior.

ACTION: Notice of Invitation for Coal Exploration License, Antelope Coal Co., WYW176107, Wyoming.

SUMMARY: Pursuant to section 2(b) of the Mineral Leasing Act of 1920, as amended by section 4 of the Federal Coal Leasing Amendments Act of 1976, 90 Stat. 1083, 30 U.S.C. 201(b), and to the regulations adopted as 43 CFR 3410, all interested parties are hereby invited to participate with Antelope Coal Co., a subsidiary of Rio Tinto Energy America on a pro rata cost sharing basis in its program for the exploration of coal deposits owned by the United States of America in the following-described land in Converse and Campbell Counties, WY:

T. 40 N., R. 71 W., 6th P.M., Converse County, Wyoming

Sec. 18: Lots 5, 6, 10 through 20;

Sec. 19: Lots 5 through 12;

T. 40 N., R. 72 W., 6th P.M., Converse County, Wyoming

Sec. 1: Lots 5 through 20;

Sec. 12: Lots 4 through 11;

Sec. 13: Lots 9 through 16;

Sec. 24: Lots 1 through 8;

T. 41 N., R. 71 W., 6th P.M., Campbell County, Wyoming

Sec. 8: Lots 1, 2, 7, 8, 13 and 14, N½SE¼;

Sec. 9: Lots 1 through 16;

Sec. 10: Lots 3 through 6, 11 through 14;

Sec. 17: Lots 1, 2, 7 through 16;

Sec. 19: Lots 5, 6, 11, and 12;

Sec. 20: Lots 1 through 8;

Sec. 21: Lots 1 through 8;

Sec. 28: Lots 3 through 6.

Containing 5121.53 acres, more or less.

DATES: Any party electing to participate in this exploration program must send written notice to both the Bureau of Land Management and Antelope Coal Co. as provided in the ADDRESSES section below, which must be received within 30 days after publication of this Notice of Invitation in the Federal Register.

ADDRESSES: Copies of the exploration plan are available for review during normal business hours in the following offices (serialized under number WYW176107): Bureau of Land Management, Wyoming State Office, 5353 Yellowstone Road, P.O. Box 1828, Cheyenne, WY 82003; and, Bureau of Land Management, Casper Field Office, 2987 Prospector Drive, Casper, WY 82604. The written notice should be sent to the following addresses: Antelope Coal Co., c/o Rio Tinto Energy America, Attn: Tom Suchomel, Caller Box 3009, Gillette, WY 82717, and the Bureau of Land Management, Wyoming State Office, Branch of Solid Minerals, Attn: Julie Weaver, P.O. Box 1828, Cheyenne, WY 82003.

SUPPLEMENTARY INFORMATION: All of the coal in the above-described land consists of unleased Federal coal within the Powder River Basin Known Coal Leasing Area. The purpose of the exploration program is to obtain supplemental geotechnical data from several previous drilling programs and to assist with the planning of future expansions of the mine.

This notice of invitation will be published in Douglas Budget of Douglas, WY and The News-Record of Gillette, WY, once each week for two consecutive weeks beginning the week of April 28, 2008, and in the Federal Register.

The foregoing is published in the Federal Register pursuant to 43 CFR 3410.2-1(c)(1).

Dated: April 16, 2008.
Larry Claypool,
Acting Deputy State Director, Minerals and Lands.

[FR Doc. E8-8751 Filed 4-22-08; 8:45 am]

BILLING CODE 4310-22-P